DEPARTMENT OF JUSTICE

Notice of Lodging of Partial Consent Decree Between De Minimis Settling Defendants and the United States and State of New Jersey, and the Natural Resource Damages Partial Consent Decree Between Settling Defendants and the United States and State of New Jersey Under the Comprehensive Environmental Response, Compensation and Liability Act, as Amended

Notice is hereby given that, on October 20, 2003, a proposed partial consent decree between de minimis settling defendants and the United States and State of New Jersey, and a proposed Natural Resource Damages Partial Consent Decree between settling defendants and the United States and State of New Jersey Natural Resources Damages Partial Consent Decree were lodged in United States v. Beckman Coulter, Inc., et al., Civil Action No. 98-CV-4812 (WHW) and New Jersey Department of Environmental Protection, et al. v. American Thermoplastics Corp., et al., Civil Action No. 98-CV-4781 (WHW) (consolidated) before the United States District Court in the District of New Jersey, Newark Vicinage.

The De Minimis Decree resolves the liability for response costs under the Comprehensive Environmental Response, Compensation and Liability Act, as amended, 42 U.S.C. 9601, et seq. (CERCLA) of 58 de minimis parties in connection with the Combe Fill South Site in New Jersey. Pursuant to the settlement, the United States and New Jersey will recover $3.235 million in response costs. The Natural Resource Damages Decree resolves the liability of 53 of those same parties for natural resource damages in connection with the Site. Pursuant to that settlement, State and federal natural resource trustees will receive $302,000 for natural resource restoration and other NRD-related costs in connection with the Site.

The Department of Justice will receive, for a period of thirty (30) days from the date of this publication, comments relating to the consent decrees. Comments should be addressed to the Assistant Attorney General, Environment and Natural Resources Division, Post Office Box 7611, United States Department of Justice, Washington, DC 20044-7611, and should refer to United States v. Beckman Coulter, Inc., et al., Civil Action No. 98-CV-4812 (WHW) and New Jersey Department of Environmental protection, et al. v. American Thermoplastics Corp., et al., Civil Action No. 98-CV-4781 (WHW) (consolidated) and reference number 90-11-2-1134/1.

The two Decrees may be examined at the Office of the United States Attorney, District of New Jersey, at the Peter Rodino Federal Building, 970 Broad Street, Suite 700, Newark, NJ (call (973) 645-2700 to arrange to examine the Decrees). Copies of the Decrees may also be obtained by mail from the Consent Decree Library, Post Office Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check payable to the United States Treasury in the amount of $36.25 (25 cents per page reproduction cost). During the public comment period, the Consent Decrees may also be examined on the following Department of Justice Web site http://www.usdoj.gov/enrd/open.html.

Ronald Gluck,
Assistant Chief, Environmental Enforcement Section, Environment and Natural Resources Division.

[FR Doc. 03-27258 Filed 10-28-03; 8:45 am]

BILLING CODE 4410-01-M